DEPARTMENT OF ENERGY

Federal Energy Regulatory Commission

Combined Notice of Filings No. 1

May 5, 2010.

Take notice that the Commission has received the following Natural Gas Pipeline Rate and Refund Report filings:

Docket Numbers: RP10-705-000.

Applicants: Northern Natural Gas Company.

Description: Northern Natural Gas Company submits Thirty Sixth Revised Sheet No 54 et al to FERC Gas Tariff, Fifth Revised Volume No 1, to be effective 11/1/10.

Filed Date: 05/03/2010.

Accession Number: 20100503-0227.

Comment Date: 5 p.m. Eastern Time on Monday, May 17, 2010.

Docket Numbers: RP10-706-000.

Applicants: Mojave Pipeline Company.

Description: Mojave Pipeline Company submits Fourth Revised Sheet 1 et al to FERC Electric Tariff, Second Revised Volume 1 to be effective 6/3/10.

Filed Date: 05/03/2010.

Accession Number: 20100504-0211.

Comment Date: 5 p.m. Eastern Time on Monday, May 17, 2010.

Docket Numbers: RP10-707-000.

Applicants: Gulf Crossing Pipeline Company LLC.

Description: Gulf Crossing Pipeline Company, LLC submits capacity release agreement containing negotiated rate provisions with Tenaska Marketing Ventures.

Filed Date: 05/03/2010.

Accession Number: 20100504-0202.

Comment Date: 5 p.m. Eastern Time on Monday, May 17, 2010.

Docket Numbers: RP10-708-000.

Applicants: Gulf South Pipeline Company, LP.

Description: Gulf South Pipeline Company, LP submits capacity release agreement containing rate provisions with Texla Energy Management, Inc.

Filed Date: 05/03/2010.

Accession Number: 20100504-0201.

Comment Date: 5 p.m. Eastern Time on Monday, May 17, 2010.

Docket Numbers: RP10-709-000.

Applicants: National Fuel Gas Supply Corporation.

Description: National Fuel Gas Supply Corporation submits Nineteenth Revised Sheet 478 to FERC Gas Tariff, Fourth Revised Volume 1 to be effective 6/3/10.

Filed Date: 05/04/2010.

Accession Number: 20100504-0217.

Comment Date: 5 p.m. Eastern Time on Monday, May 17, 2010.

Docket Numbers: RP10-710-000.

Applicants: Gulf South Pipeline Company, LP.

Description: Gulf South Pipeline Company, LP submits capacity release agreement containing negotiated rate provisions with Texla Energy Management, Inc.

Filed Date: 05/04/2010.

Accession Number: 20100504-0216.

Comment Date: 5 p.m. Eastern Time on Monday, May 17, 2010.

Docket Numbers: RP10-711-000.

Applicants: Cameron Interstate Pipeline, LLC.

Description: Cameron Interstate Pipeline, LLC Submits Annual Report of Operational Imbalances and Cash-out Activity.

Filed Date: 05/03/2010.

Accession Number: 20100503-5157.

Comment Date: 5 p.m. Eastern Time on Monday, May 17, 2010.

Docket Numbers: RP10-712-000.

Applicants: Eastern Shore Natural Gas Company.

Description: Eastern Shore Natural Gas Company 2009-2010 IT Revenue Sharing Report.

Filed Date: 04/30/2010.

Accession Number: 20100430-5500.

Comment Date: 5 p.m. Eastern Time on Wednesday, May 12, 2010.

Any person desiring to intervene or to protest in any of the above proceedings must file in accordance with Rules 211 and 214 of the Commission's Rules of Practice and Procedure (18 CFR 385.211 and.385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive email notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. 2010-11123 Filed 5-10-10; 8:45 am]

BILLING CODE 6717-01-P